DEPARTMENT OF TRANSPORTATION

Federal Railroad Administration

[Docket Number FRA-2013-0135]

Notice of Application for Approval of Discontinuance or Modification of a Railroad Signal System

In accordance with Part 235 of Title 49 Code of Federal Regulations and 49 U.S.C. 20502(a), this document provides the public notice that by a document dated November 22, 2013, NJ Transit Rail Operations, Inc. (NJTRO), Norfolk Southern Corporation (NS), and Morristown and Erie Railway (ME) jointly petitioned the Federal Railroad Administration (FRA) seeking approval for the discontinuance or modification of a signal system. FRA assigned the petition Docket Number FRA-2013-0135.

Applicants:

NJ Transit Rail Operations, Inc., Mr. Timothy P. Purcell, Acting Chief Engineer—Signals, One Penn Plaza East, Newark, NJ 07105-2246

Norfolk Southern Corporation, Mr. Brian Sykes, Chief Engineer C&S Engineering, 1200 Peachtree Street NE, Atlanta, GA 30309

Morristown and Erie Railway, Mr. Wesley R. Weis, President and Chief Executive Officer, P.O. Box 2206, 49 Abbett Avenue, Morristown, NJ 07962

NJTRO, NS, and ME jointly seek approval of the proposed discontinuance of the automatic block signal (ABS) system on Track Number 2; the installation of a traffic control system (TCS) on Track Number 2; the discontinuance of automatic signals within TCS territory; and the retention of a cab signal system without wayside automatic signals on Track Numbers 1 and 2, between Control Point (CP) Wharton, Milepost (MP) 39.4 and Morris Junction Interlocking, MP 45.2 on NJTRO's Morristown Line, Hoboken Division, Morris County, NJ. Provisions will be made for absolute blocking to protect any train that may experience a failed cab signal after leaving its initial terminal. The discontinuance will include automatic signals: M 408-1, M 408-2, M 409-1, M 424-1, M 424-2, M 423-1, M 438-1, M 438-2, and M 439-1.

The reasons given for the proposed changes are to improve reliability and safety, expedite train movements, and retire facilities no longer required for present train operations.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by February 7, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2013-30538 Filed 12-23-13; 8:45 am]

BILLING CODE 4910-06-P